DEPARTMENT OF TRANSPORTATION

Federal Aviation Administration

Orders Limiting Scheduled Operations at John F. Kennedy International Airport, LaGuardia Airport and Newark Liberty International Airport; High Density Rule at Reagan National Airport

AGENCY: Federal Aviation Administration (FAA), DOT.

ACTION: Notice of limited waiver of the slot usage requirement.

SUMMARY: This action announces a limited waiver of the requirements to use slots at Washington's Reagan National Airport (DCA) and Operating Authorizations (slots) at John F. Kennedy International Airport (JFK), LaGuardia Airport (LGA), and Newark Liberty International Airport (EWR). This policy is effective from February 5, 2010 through February 15, 2010.

DATES: Effective upon publication.

FOR FURTHER INFORMATION CONTACT: Robert Hawks, Office of the Chief Counsel, Regulations Division, Federal Aviation Administration, 800 Independence Avenues, SW., Washington, DC 20591; telephone: (202) 267-7143; e-mail: rob.hawks@faa.gov.

SUPPLEMENTARY INFORMATION:

Background

Multiple snowstorms in the northeastern and mid-Atlantic United States beginning February 5, 2010, severely disrupted aviation and other modes of transportation. Substantial amounts of snow from these storms resulted in numerous airport closures. Airports' capacity was also significantly reduced due to weather, snow removal operations, and aircraft deicing programs. Air carriers responded by cancelling flights and combining operations, and the FAA used traffic management programs as needed to manage traffic with available airspace and airport capacity. Carriers instituted network operational recovery plans during this time to position aircraft and crews needed to resume scheduled operations.

The degree of disruption and cancellations varied by airport and by day, but DCA, JFK, LGA, and EWR all were affected by the storms. However, the flight disruptions were not limited to the slot-controlled airports. Operations at other airports in the Washington, DC, area and throughout the eastern United States were likewise impacted. Recovery of normal operations took several days after the initial storms and was exacerbated by subsequent adverse weather conditions. Operations at all airports appeared to return to normal by February 16.

Under the FAA's High Density Rule and orders limiting scheduled operations at the airports, slots must be used at least 80 percent of the time. Slots not meeting the minimum usage rules will be withdrawn or not receive historic precedence for the following scheduling season, depending on the airport.¹ The FAA may grant a waiver from the minimum usage requirements in highly unusual and unpredictable conditions that are beyond the control of the carrier and affect carrier operations for a period of five consecutive days or more.

¹ 14 CFR § 93.227 (DCA); 74 FR 51648 (Oct. 7, 2009) (EWR); 74 FR 51650 (Oct. 7, 2009) (JFK); 74 FR 51653 (Oct. 7, 2009) (LGA).

Statement of Policy

The FAA has determined these unusual circumstances meet the criteria for a limited waiver of the minimum slot usage. Accordingly, the FAA will treat as used any slot or Operating Authorization held by a carrier from February 5 through 15, 2010.

The FAA does not intend to routinely grant general waivers to the usage requirements. Rules allow for up to 20 percent nonuse, including planned and unplanned cancellations. These rules are expected to accommodate routine weather and other cancellations under all but the most unusual circumstances.

Issued in Washington, DC on February 19th, 2010.
James W. Whitlow,
Acting Chief Counsel.

[FR Doc. 2010-3958 Filed 2-25-10; 8:45 am]

BILLING CODE 4910-13-P